DEPARTMENT OF AGRICULTURE

Agricultural Marketing Service

[Doc. No. AMS-FGIS-19-0027 E]

Opportunity for Designation in the South Carolina Area

AGENCY: Agricultural Marketing Service, USDA.

ACTION: Notice.

SUMMARY: The Agricultural Marketing Service (AMS) is temporarily extending the South Carolina Department of Agriculture's (SCDA) designation as provider of Federal Grain Inspection Service (FGIS) official services for the State of South Carolina, until December 31, 2019. AMS administers FGIS programs.

DATES: This designation is effective September 25, 2019. Interim designation is extended through December 31, 2019.

FOR FURTHER INFORMATION CONTACT: Jacob Thein, Compliance Officer, FGIS, AMS, USDA, 10383 North Ambassador Drive, Kansas City, MO 64153; phone: (816) 866-2223; or email: FGISQACD@ams.usda.gov.

SUPPLEMENTARY INFORMATION: Section 7(f) of the United States Grain Standards Act (7 U.S.C. 71 et seq.) (USGSA) authorizes the Secretary to designate a qualified applicant to provide official grain inspection services in a specified area after determining, among other things, that the applicant is better able than any other applicant to provide such official services (7 U.S.C. 79(f)(1)(B)). Under section 7(g) of the USGSA, designations of official agencies are effective for no longer than five years, unless terminated by the Secretary, and may be renewed according to the criteria and procedures prescribed in section 7(f) of the USGSA.

SCDA is currently designated as interim official inspection service provider for the South Carolina area, pending an AMS designation decision for an official service provider. As announced in the Federal Register on June 25, 2019 (84 FR 29839), SCDA's interim designation was scheduled to expire on September 30, 2019. The June 25, 2019, Federal Register notice also invited interested persons or governmental agencies to apply for designation as official inspection service provider for the geographic area currently served by SCDA. The application period closed July 25, 2019. AMS received three applications, two from state agencies (SCDA and North Carolina Department of Agriculture), and one from a private agency (D.R. Schaal Agency, Inc.).

AMS has not completed its review of the three applications. AMS, accordingly, requires additional time to complete the review and evaluation of information submitted by the applicants. Therefore, AMS is temporarily extending SCDA's interim designation until December 31, 2019.

Authority: 7 U.S.C. 71-87k.

Dated: September 20, 2019.
Bruce Summers,
Administrator, Agricultural Marketing Service.

[FR Doc. 2019-20864 Filed 9-24-19; 8:45 am]

BILLING CODE 3410-02-P